PENSION BENEFIT GUARANTY CORPORATION

Privacy Act of 1974; System of Records

AGENCY: Pension Benefit Guaranty Corporation.

ACTION: Notice of a new system of records—PBGC-14, My Plan Administration Account Authentication Records—PBGC.

SUMMARY: The Pension Benefit Guaranty Corporation (PBGC) is establishing a new system of records, PBGC-14, My Plan Administration Account (My PAA) Authentication Records—PBGC, subject to the Privacy Act of 1974, as amended. The new system of records is necessary to reflect new records and processes associated with a new online application that will permit individuals to submit information electronically and make payments through the PBGC's Internet Web site (http://www.pbgc.gov).

DATES: Comments on the new system of records and proposed routine uses must be received on or before January 23, 2004. The new system of records will become effective February 3, 2004, without further notice, unless comments result in a contrary determination and a notice is published to that effect.

ADDRESSES: Comments may be mailed to the Office of the General Counsel, Pension Benefit Guaranty Corporation, 1200 K Street, NW., Washington, DC 20005-4026, or delivered to Suite 340 at that address during normal business hours. Comments also may be submitted electronically through the PBGC's Web site at http://www.pbgc.gov/privacyact, or by fax to 202-326-4112. The PBGC will make all comments available on its Web site, http://www.pbgc.gov. Copies of the comments may also be obtained by writing to the PBGC's Communications and Public Affairs Department at Suite 240 at the above address or by visiting that office or calling (202) 326-4040 during normal business hours. TTY and TDD users may call the Federal relay service toll-free at 1-800-877-8339 and ask to be connected to (202) 326-4040.

FOR FURTHER INFORMATION CONTACT: D. Bruce Campbell, Attorney, Pension Benefit Guaranty Corporation, Office of the General Counsel, 1200 K Street, NW., Washington, DC 20005-4026; 202-326-4000 Ext. 3672. For TTY/TDD users, call the Federal relay service toll-free at 1-800-877-8339 and ask to be connected to (202) 326-4024.

SUPPLEMENTARY INFORMATION: The PBGC is committed to improving customer service and governmental efficiency through the use of information technology to administer the defined benefit pension plan termination insurance program established by title IV of the Employee Retirement Income Security Act of 1974, as amended. A major component of the PBGC's strategy to implement the Government Paperwork Elimination Act (GPEA), Pub. L. 105-277 (1998), is the development of an online self-service center so that PBGC customers can conduct required plan transactions with the PBGC through the Internet.

My PAA is a secure Web-based application that will allow authenticated plan sponsors, administrators, and pension practitioners such as enrolled actuaries and other benefit professionals to work together to file and pay premiums due the PBGC under 29 U.S.C. 1306, check premium account histories, make plan termination filings under 29 U.S.C. 1341, make reportable event filings under 29 U.S.C. 1343, contact the PBGC with questions, and perform other plan maintenance tasks online. The PBGC is establishing a new system of records, PBGC-14, My Plan Administration Account Authentication Records—PBGC, to maintain records about individuals who register to use the My PAA application to verify their identity and authenticate the actions taken by that user with respect to PBGC filings.

To open a My PAA online account, an individual must register with the PBGC as the “filing coordinator.” To become a filing coordinator, the individual must submit his or her name, employer, contact information, including e-mail address, and the pension plan name, employer identification number (EIN), and plan number (PN) for each plan for which the individual wants to act as filing coordinator.

To verify that the individual has authority to make filings on behalf of the plan, the individual must submit the number of participants in the plan reported to the PBGC in the plan's most recent premium filing, and the amount of premiums paid to the PBGC for that filing year. The My PAA application will compare the information submitted by the individual with data from previous filings in the PBGC's premium database. If the information submitted by the individual is correct, My PAA will e-mail a temporary user ID and password to the approved filing coordinator that will allow the filing coordinator to obtain access to the My PAA system. When an approved user logs on, the My PAA system will prepopulate data fields in My PAA and allow access to the plan's premium filing history from previous My PAA filings.

If the information submitted does not match the information in the PBGC's premium database, My PAA will notify the individual that he or she has been granted “conditional” status as filing coordinator until the PBGC is able to verify the individual's authority to act on behalf of the plan. A PBGC employee will manually review PBGC premium filing records or contact the plan's sponsor or administrator to verify the individual's authority to act on behalf of the plan. A conditional user receives a temporary user ID and password to make new filings via My PAA, but will not be granted access to the plan's premium filing history from previous My PAA filings. My PAA will not automatically prepopulate data fields as the system does when an approved user accesses the system.

The filing coordinator may use the My PAA application to invite other individuals to participate in PBGC filings with respect to a plan, and select the activities the individuals are authorized to perform. The roles or activities that may be authorized under My PAA include creating and editing filings, signing filings electronically as the plan administrator, signing filings electronically as the enrolled actuary, or authorizing payments to the PBGC. The filing coordinator must submit the individual's name and contact information, including e-mail address, and the activities the individual is authorized to perform in My PAA with respect to the plan. My PAA will e-mail the individual a temporary user ID and password that will permit the invited user to access the My PAA system to register to participate in filings.

My PAA requires a first-time user (either approved or conditional) to change his or her user ID and password when registering during the initial login to the system. The first-time user must also select a secret question/secret answer combination that will be used in addition to the user ID and password to authenticate the actions taken by that user.

The records maintained by the PBGC in PBGC-14, My Plan Administration Account Authentication Records—PBGC, will be used to verify the identity of, and authenticate the actions taken by, individuals using My PAA to make PBGC filings. The information that will be maintained includes the user's name, work telephone number, work e-mail address, other contact information, a temporary, PBGC-issued user ID and password, a user-selected user ID and password, and a secret question/secret answer combination for authentication.

For each pension plan that the user intends to participate in making filings for, the PBGC will also maintain the plan name, employer identification number (EIN), and plan number (PN); the plan administrator's name, address, phone number, and e-mail address; other contact information; and the role that the user will play in the filing process, i.e., creating and editing filings, signing filings electronically as the plan administrator, signing filings electronically as the enrolled actuary, or authorizing payments to the PBGC.

PBGC general routine uses G1, Law Enforcement, G4, Disclosure in Litigation, G5, Disclosure to the Department of Justice in Litigation, G6, Disclosure to OMB, and G7, Congressional Inquiries apply to this system of records. These routine uses were published as the PBGC's Prefatory Statement of General Routine Uses at 60 FR 57462, 57563 (1995).

Issued in Washington, DC this 19th day of December, 2003.
Steven A. Kandarian,
Executive Director, Pension Benefit Guaranty Corporation.

PBGC-14

System name:

My Plan Administration Account Authentication Records—PBGC.

Security classification:

Not applicable.

System location:

Pension Benefit Guaranty Corporation, 1200 K Street NW., Washington, DC 20005-4026.

Categories of individuals covered by the system:

Individuals who register to use the My PAA application to make PBGC filings and payments electronically via the PBGC's Internet Web site (www.pbgc.gov), including individuals acting for plan sponsors, plan administrators, and pension practitioners such as enrolled actuaries and other benefit professionals.

Categories of records in the system:

Records include the user's name, work telephone number, work e-mail address, other contact information, a temporary, PBGC-issued user ID and password, a user-selected user ID and password, and a secret question/secret answer combination for authentication. For each pension plan that the user intends to participate in making filings with the PBGC, the name, employer identification number (EIN), and plan number (PN); the plan administrator's name, address, phone number, and e-mail address; other contact information; and the role that the user will play in the filing process, i.e, creating and editing filings, signing filings electronically as the plan administrator, signing filings electronically as the enrolled actuary, or authorizing payments to the PBGC.

Authority for maintenance of the system:

29 U.S.C. 1302, 1306, 1307, 1341, and 1343.

Purpose(s):

This system of records is maintained for use in verifying the identity of, and authenticating actions taken by, individuals who register to use the My PAA application to make PBGC filings.

Routine uses of records maintained in the system, including categories of users and the purposes of such uses:

PBGC General Routine Uses G1, G4, G5, G6, and G7 apply to this system of records (See Prefatory Statement of General Routine Uses, 60 FR 57462, 57563 (1995)).

Policies and practices for storing, retrieving, accessing, retaining, and disposing of records in the system:

Storage:

Records are maintained in automated form in computer databases maintained by the PBGC.

Retrievability:

Records are indexed by name, user ID and password, and by plan name and EIN/PN.

Safeguards:

The PBGC has adopted appropriate administrative, technical, and physical controls in accordance with the PBGC's Automated Information Systems Security Program to protect the security, integrity, and availability of the information, and to assure that records are not disclosed to unauthorized individuals.

Retention and disposal:

Records are maintained in accordance with the PBGC's established records disposition schedule for premium-related records.

System manager(s) and address:

Director, Financial Operations Department, Pension Benefit Guaranty Corporation, 1200 K Street, NW., Washington, DC 20005-4026.

Notification procedure:

Procedures are detailed in PBGC regulations: 29 CFR part 4902.

Record access procedures:

An individual may access his or her records via the My PAA application available on the PBGC's Internet Web site (www.pbgc.gov), or by following the procedures outlined at 29 CFR part 4902.

Contesting record procedures:

Same as notification procedure.

Record source categories:

Subject individual and other registered users.

Exemptions claimed for the system:

None.

[FR Doc. 03-31761 Filed 12-23-03; 8:45 am]

BILLING CODE 7708-01-P